DEPARTMENT OF AGRICULTURE

Submission for OMB Review; Comment Request

May 5, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Laboratory Network.

OMB Control Number: 0579-NEW.

Summary of Collection: The Animal and Plant Health Inspection Service (APHIS) is proposing to add a new database, entitled National Animal Health Laboratory Network (NAHLN), which will be used to support activities conducted by the agency and maintain records pursuant to its missions and responsibilities authorized by the Animal Health Protection Act (7 U.S.C. 8301-8317); Public Health Security and Bioterrorism Preparedness and Response Act of 2002, 116 Stat. 674-678 (Pub. L. 107-188); Homeland Security Presidential Directive-7 (HSPD-7); and Homeland Security Presidential Directive-9 (HSPD-9). These requirements include the development of a national laboratory network for veterinary health that integrates existing Federal and State laboratory resources, are interconnected, and utilize standardized diagnostic protocols and procedures.

Need and Use of the Information: The purpose of NAHLN is to coordinate and network Federal laboratory capacity with the capacity and extensive infrastructure (facilities, professional expertise, and support) of State and university laboratories. APHIS uses the system to enhance early detection of foreign animal disease agents and newly emerging diseases, to better respond to animal health emergencies (including bioterrorist events) that threaten the nation's food supply and public health, and to assist in assessing the nation's animal health status through targeted surveillance and shared animal health diagnostic data.

Description of Respondents: State, Local or Tribal Government.

Number of Respondents: 89.

Frequency of Responses: Reporting: On occasion.

Total Burden Hours: 8,056.

Ruth Brown,
Departmental Information Collection Clearance Officer.

[FR Doc. E9-10771 Filed 5-7-09; 8:45 am]

BILLING CODE 3410-34-P